DEPARTMENT OF COMMERCE

National Oceanic and Atmospheric Administration

RIN 0648-XD720

Marine Mammals; File No. 18673

AGENCY: National Marine Fisheries Service (NMFS), National Oceanic and Atmospheric Administration (NOAA), Commerce.

ACTION: Notice; withdrawal of application.

SUMMARY: Notice is hereby given that Leslie Cornick, Ph.D., Alaska Pacific University, 4101 University Drive, Anchorage, AK 99508 has withdrawn her application for a permit to conduct research on northern fur seals (Callorhinus ursinus).

ADDRESSES: The application and related documents are available for review upon written request or by appointment in the Permits and Conservation Division, Office of Protected Resources, NMFS, 1315 East-West Highway, Room 13705, Silver Spring, MD 20910; phone (301) 427-8401; fax (301) 713-0376.

FOR FURTHER INFORMATION CONTACT: Rosa L. González or Amy Sloan, (301) 427-8401.

SUPPLEMENTARY INFORMATION: On January 22, 2015, notice was published in the Federal Register (80 FR 3224) that a request for a permit to conduct research on northern fur seals had been submitted by the above-named applicant. The applicant has withdrawn the application from further consideration.

Dated: August 27, 2015.
Julia Harrison,
Chief, Permits and Conservation Division, Office of Protected Resources, National Marine Fisheries Service.

[FR Doc. 2015-21612 Filed 8-31-15; 8:45 am]

BILLING CODE 3510-22-P